NUCLEAR REGULATORY COMMISSION

[Docket No. 72-36]

Southern Nuclear Operating Company Issuance of Environmental Assessment and Finding of No Significant Impact

The U.S. Nuclear Regulatory Commission (NRC or the Commission) is considering issuance of an exemption, pursuant to 10 CFR 72.7, from the provisions of 10 CFR 72.48 to Southern Nuclear Operating Company (SNC). The requested exemption would allow SNC to implement the amended 10 CFR 72.48 requirements on June 1, 2001, for the Independent Spent Fuel Storage Installation (ISFSI) at the Edwin I. Hatch Nuclear Plant (HNP) in Appling County, Georgia.

Environmental Assessment (EA)

Identification of Proposed Action: By letter dated February 9, 2001, SNC requested a scheduler exemption from the implementation date of April 5, 2001, for the revised 10 CFR 72.48. SNC plans to implement its revised 10 CFR 50.59 and 10 CFR 72.48 programs simultaneously. The planned date for implementing the revised 10 CFR 50.59 requirements is June 1, 2001.

Need for Proposed Action: The applicant wants the implementation date of 10 CFR 50.59 and 10 CFR 72.48 to coincide. The applicant stated in the February 9, 2001, submittal that administering separate programs for less than a two month period to satisfy the current 10 CFR 72.48 schedule could become burdensome and create confusion.

Environmental Impacts of the Proposed Action: There are no significant environmental impacts associated with the proposed action. The new revision of 10 CFR 72.48 is considered less restrictive than the current requirements, with the exception of the additional reporting requirements. Continued implementation of the existing 10 CFR 72.48 until June 1, 2001, is acceptable to the NRC as stated in Regulatory Issues Summary 2001-03 which states that it is the NRC's view that both the old rule and the new rule provide an acceptable level of safety. Extending the current requirements until June 1, 2001, has no significant impact on the environment.

Alternative to the Proposed Action: Since there are no environmental impacts associated with the proposed action, alternatives are not evaluated other than the no action alternative. The alternative to the proposed action would be to deny approval of the scheduler exemption and, therefore, not allow SNC to implement the revised 10 CFR 72.48 requirements on the desired date, June 1, 2001. However, the environmental impacts of the proposed action and the alternative would be the same.

Agencies and Persons Consulted: On March 9, 2001, Georgia state official, Mr. James Hardeman, Environmental Radiation Program Manager, Georgia Department of Natural Resources, Environmental Protection Division, was contacted regarding the environmental assessment for the proposed action and had no comment.

Finding of No Significant Impact

The environmental impacts of the proposed action have been reviewed in accordance with the requirements set forth in 10 CFR part 51. Based upon the foregoing EA, the Commission finds that the proposed action of granting an exemption from 10 CFR 72.48, so that SNC may implement the amended requirements on June 1, 2001, will not significantly impact the quality of human environment. Accordingly, the Commission has determined that an environmental impact statement for the proposed action is not necessary.

The request for exemption was docketed under 10 CFR part 72, Docket 72-36. For further details with respect to this action, see the exemption request dated February 9, 2001, which is available for public inspection at the Commission's Public Document Room, One White Flint North Building, 11555 Rockville Pike, Rockville, Maryland 20852, or from the publicly available records component of NRC's agencywide documents access and management system (ADAMS).

ADAMS is accessible from the NRC web site at http://www.nrc.gov/NRC/ADAMS/index.html (the Public Electronic Reading Room).

Dated at Rockville, Maryland, this 5th day of April 2001.
For the Nuclear Regulatory Commission.
E. William Brach,
Director, Spent Fuel Project Office, Office of Nuclear Material Safety and Safeguards.

[FR Doc. 01-9621 Filed 4-17-01; 8:45 am]

BILLING CODE 7590-01-P